DEPARTMENT OF COMMERCE

Technology Administration

Submission for OMB Review; Comment Request

The Department of Commerce (DOC) has submitted to the Office of Management and Budget (OMB) for clearance the following proposal for collection of information under the provisions of the Paperwork Reduction Act (44 U.S.C. chapter 35).

Agency: Technology Administration.

Title: National Medal of Technology Nomination Applications.

Agency Form Number(s): None.

OMB Approval Number: 0692-0001.

Type of Review: Regular submission.

Burden Hours: 2,625.

Number of Respondents: 105.

Average Hours Per Respondents: 25 hours.

Needs and Uses: The National Medal of Technology is the highest honor bestowed by the President of the United States to America's leading innovators. The Medal has been given annually since 1985 to individuals, teams, or companies for accomplishments in the innovation, development, commercialization, and management of technology. This information collection is critical for the Medal's Nomination Evaluation Committee to determine nomination eligibility and merit according to specified criteria. This information is needed in order to comply with Pub. L. 105-309. Comparable information is not available on a standardized basis.

Affected Public: Individuals or households, business or other for-profit organizations, not-for-profit institutions, and the Federal government.

Frequency: Annually.

Respondent's Obligation: Voluntary.

OMB Desk Officer: David Rostker, (202) 395-3897.

Copies of the above information collection proposal can be obtained by calling or writing Diana Hynek, Departmental Paperwork Clearance Officer, (202) 482-0266, Department of Commerce, Room 6625, 1401 Constitution Avenue, NW., Washington, DC 20230 (or via the Internet at dHynek@doc.gov).

Written comments and recommendations for the proposed information collection should be sent no later than 30 days after publication of this notice, to David Rostker, OMB Desk Officer, Office of Management and Budget, Room 10202, Washington, DC 20530.

Dated: November 8, 2002.
Gwellnar Banks,
Management Analyst, Office of the Chief Information Officer.

[FR Doc. 02-28914 Filed 11-13-02; 8:45 am]

BILLING CODE 3510-18-P